DEPARTMENT OF STATE

[Public Notice 3962]

Shipping Coordinating Committee; Notice of Meeting

The Shipping Coordinating Committee (SHC) will conduct an open meeting at 9:30 AM on Wednesday June 12, 2002, in room 6319, U.S. Coast Guard Headquarters, 2100 Second Street, SW., Washington, DC. The purpose of the meeting is to prepare for the 48th session of the Subcommittee on Safety of Navigation (NAV) of the International Maritime Organization (IMO) which is scheduled for July 8-12, 2002, at the IMO Headquarters in London.

Items of principal interest on the agenda are:

—Routing of ships, ship reporting and related matters

—Integrated bridge systems (IBS) operational aspects

—Places of refuge

—Revision of fishing vessel Safety Code and Voluntary Guidelines

—Anchoring, mooring and towing equipment

—Feasability study on carriage of Voyage Data Recorders (VDR) on existing cargo ships

—Revision of performance standards for radar reflectors

—Review of performance standards for radar equipment

—International Telecommunication Union (ITU) matters, including Radiocommunication ITU-R Study Group 8

—Large passenger ship safety: Effective voyage planning

—Measures to prevent accidents with lifeboats

—Matters related to bulk carrier safety

—Casualty analysis

Members of the public may attend these meetings up to the seating capacity of the room. Interested persons may seek information by writing: Mr. Edward J. LaRue, Jr., U.S. Coast Guard (G-MWV-2, Room 1407, 2100 Second Street SW, Washington, DC 20593-0001 or by calling: (202) 267-0416.

Dated: April 10, 2002.
Stephen M. Miller,
Executive Secretary, Shipping Coordinating Committee, Department of State.

[FR Doc. 02-12046 Filed 5-14-02; 8:45 am]

BILLING CODE 4710-11-P